DEPARTMENT OF HOUSING AND URBAN DEVELOPMENT

[Docket No. FR-5907-N-31]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert E. Moriarty, P.E., AFCEC/CI, 2261 Hughes Avenue, Ste. 155, JBSA Lackland TX 78236-9853, (315) 225-7384; ARMY: Ms. Veronica Rines, Office of the Assistant Chief of Staff for Installation Management, Department of Army, Room 5A128, 600 Army Pentagon, Washington, DC 20310, (571) 256-8145; COE: Ms. Brenda Johnson-Turner, HQUSACE/CEMP-CR, 441 G Street NW., Washington, DC 20314, (202) 761-7238; COAST GUARD: Mr. John Ericson, Commandant (CG-437), U.S. Coast Guard, Stop 7714, 2703 Martin Luther King Jr. Avenue SE., Washington, DC 20593-7714; (202) 475-5602; GSA: Mr. Flavio Peres, General Services Administration, Office of Real Property Utilization and Disposal, 1800 F Street NW., Room 7040, Washington, DC 20405, (202) 501-0084; NASA: Mr. William Brodt, National Aeronautics and Space Administration, 300 E Street SW., Room 2P85, Washington, DC 20546, (202) 358-1117; NAVY: Mr. Steve Matteo, Department of the Navy, Asset Management Division, Naval Facilities Engineering Command, Washington Navy Yard, 1330 Patterson Ave. SW., Suite 1000, Washington, DC 20374, (202) 685-9426 (These are not toll-free numbers).

Dated: July 21, 2016.
Brian P. Fitzmaurice,
Director, Division of Community Assistance, Office of Special Needs Assistance Programs.

TITLE V, FEDERAL SURPLUS PROPERTY PROGRAM FEDERAL REGISTER REPORT FOR 07/29/2016

Suitable/Available Properties

Building

Arkansas

Vault Toilet Concrete with slab

1528 Hwy 32 East

Ashdown AR 71822

Landholding Agency: COE

Property Number: 31201630002

Status: Unutilized

Directions: Acct #MWL01C11 Property ID# MWOOD-55162 Beard's Bluff Park Millwood Lake

Comments: off-site removal only; 20+ yrs. old; 168 sq. ft.; toilet; 12+ mos. vacant; severely damaged from flood; contact COE for more information.

Texas

20 Buildings

Red River Army Depot

Texarkana TX 75507

Landholding Agency: Army

Property Number: 21201630001

Status: Excess

Directions: 02095; 02101; 02109; 02113; 02125; 02127; 02135; 02143; 02145; 02197; 02263; 02261; 02205; 02255; 02249; 02247; 02241; 02211; 02217; 02235

Comments: off-site removal only; poor conditions; 168 sq. ft. each; safety shelters; contact Army for more details on a specific property listed above.

15 Buildings

Red River Army Depot

Texarkana TX 75507-5000

Landholding Agency: Army

Property Number: 21201630002

Status: Excess

Directions: 02287; 02275; 02271; 02379; 02289; 02323; 02351; 02397; 02403; 02419; 02423; 02383; 02093; 02305; 02309

Comments: off-site removal only; poor conditions; 168 sq. ft. for each; contact Army for more details on a specific property listed above.

2 Buildings

Red River Army Depot

Texarkana TX 75507

Landholding Agency: Army

Property Number: 21201630005

Status: Excess

Directions: 02369 (257 sq. ft.; access control facility); 00450 (44 sq. ft.; FE Maint.)

Comments: off-site removal only; very poor conditions; contact Army for more specific details on a property listed above.

Land

Florida

Former Locator Outer Marker

(LOM/OM)

17364 Dumont Drive

Fort Myers FL 33967

Landholding Agency: GSA

Property Number: 54201630002

Status: Excess

GSA Number: 4-U-FL-1334AA

Comments: 0.50 acres of land; partially gravel; outer marker locator.

Unsuitable Properties

Building

Florida

2 Buildings

Naval Air Station Pensacola

Pensacola FL 32508

Landholding Agency: Navy

Property Number: 77201630002

Status: Unutilized

Directions: Building 3233 & 3234

Comments: public acc. denied and no alter. method to gain access w/out comp. Nat. sec.; Doc. def.: doc. prov. represents a clear threat to pers. phys. safety; walls deter.; sustained dam. from hurricane Ivan.

Reasons: Extensive deterioration; Secured Area

New Jersey

UDC Embroidery Shop (845109)

414 Madison Avenue

Woodbine NJ 08270

Landholding Agency: Coast Guard

Property Number: 88201630002

Status: Excess

Directions: U.S. Coast Guard Uniform Distribution Center

Comments: public access denied and no alternative method to gain access without compromising national security.

Reasons: Secured Area

North Carolina

Guest Housing Trailer #16F (24041)

1664 Weeksville Road

Elizabeth City NC 27909

Landholding Agency: Coast Guard

Property Number: 88201630001

Status: Excess

Comments: public access denied and no alternative method to gain access without compromising national security; located within an airport runway clear zone or military airfield.

Reasons: Secured Area

Ohio

Building 2005, Traffic Check House

8011 Zistel Street

Columbus OH 43217

Landholding Agency: Air Force

Property Number: 18201630003

Status: Underutilized

Comments: public access denied and no alternative method to gain access without compromising national security.

Reasons: Secured Area

4 Buildings

Glenn Research Center

Brook Park OH 44135

Landholding Agency: NASA

Property Number: 71201630005

Status: Underutilized

Directions: 0135, 0035,0021, 0024

Comments: public access denied and no alternative method to gain access without compromising national security.

Reasons: Secured Area

Texas

3 Buildings

Red River Army Depot

Texarkana TX 75507

Landholding Agency: Army

Property Number: 21201630006

Status: Excess

Directions: 00909; 01027; 568

Comments: public access denied and no alternative method to gain access without compromising national security.

Reasons: Secured Area

[FR Doc. 2016-17653 Filed 7-28-16; 8:45 am]

BILLING CODE 4210-67-P